FEDERAL COMMUNICATIONS COMMISSION

Notice of Public Information Collection(s) Being Submitted for Review to the Office of Management and Budget

November 30, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 12, 2007. If you anticipate that you will be submitting PRA comments but find it difficult to do so within the period of time allowed by this notice, you should advise the FCC contact listed below as soon as possible.

ADDRESSES: Direct all PRA comments to Allison E. Zaleski, Office of Management and Budget, Room 10236 NEOB, Washington, DC 20503, (202) 395-6466, or via fax at (202) 395-5167 or via Internet at Allison_E._Zaleski@eop.omb.gov and to Leslie_F._Smith@fcc.gov, Federal Communications Commission, Room 1-C216, 445 12th Street, SW., Washington, DC 20554, or an e-mail to PRA@fcc.gov. If you would like to obtain or view a copy of this information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-0773.

Title: Section 2.803, Marketing of RF Devices Prior to Equipment Authorization.

Form Number: N/A.

Type of Review: Extension of a currently approved collection.

Respondents: Businesses or other for-profit entities.

Number of Respondents: 6,000.

Estimated Time per Response: 0.5 hours.

Frequency of Response: One time and on occasion reporting requirements; Third party disclosure.

Obligation To Respond: Required to obtain or retain benefits.

Total Annual Burden: 3,000 hours.

Total Annual Costs: N/A.

Nature and Extent of Confidentiality: There is no need for confidentiality.

Privacy Act Impact Assessment: No impact(s).

Needs and Uses: FCC rules permit the display and advertising of radio frequency (RF) devices prior to equipment authorization or to a determination of compliance, providing that the advertising or display contains a conspicuous notice as specified at 47 CFR 2.803(c). A notice must also accompany RF prototype equipment devices offered for sale, as stated in 47 CFR 2.803(c)(1), prior to equipment authorization or to a showing of compliance, that the equipment is a prototype and is not for sale. This information informs third parties of the FCC's requirement for the responsible party to comply with its rules.

Federal Communications Commission.
Marlene H. Dortch,
Secretary.

[FR Doc. E6-20907 Filed 12-12-06; 8:45 am]

BILLING CODE 6712-01-P